DEPARTMENT OF ENERGY

Federal Energy Regulatory Commission

[Docket No. RP00-467-001]

Midwestern Gas Transmission Company; Notice of Compliance Filing

July 12, 2002.

Take notice that on July 5, 2002, Midwestern Gas Transmission Company (Midwestern) tendered for filing to become part of its FERC Gas Tariff, Third Revised Volume No. 1, the pro forma tariff sheets listed in Appendix A of the filing.

Midwestern states that this filing is a revised pro forma compliance filing with the Commission's Orders No. 637, 637-A, and 637-B. Regulation of Short-Term Natural Gas Transportation Services and Regulation of Interstate Natural Gas Transportation Services, Order No. 637, 65 FR 10,156 (Feb. 25,2000); III FERC Stats. & Regs. Regulations Preambles 31,091 (Feb. 9, 2000); Order No. 637-A, 65 FR 35,706 (June 5, 2000), III FERC Stats. & Regs. Regulations Preambles 31,099 (May 19, 2000), order denying reh'g., Order 637-B, 92 FERC ¶ 61,062 (2000).

Midwestern states that copies of this filing have been sent to all of Midwestern's contracted Shippers, interested state regulatory commissions, and all parties of record in this proceeding.

Any person desiring to protest said filing should file a protest with the Federal Energy Regulatory Commission, 888 First Street, NE., Washington, DC 20426, in accordance with Section 385.211 of the Commission's Rules and Regulations. All such protests must be filed on or before July 19, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18087 Filed 7-17-02; 8:45 am]

BILLING CODE 6717-01-P